DEPARTMENT OF COMMERCE

National Oceanic and Atmospheric Administration

[I.D. 091800F]

New England Fishery Management Council; Public Meetings

AGENCY: National Marine Fisheries Service (NMFS), National Oceanic and Atmospheric Administration (NOAA), Commerce.

ACTION: Notice of public meetings.

SUMMARY: The New England Fishery Management Council (Council) is scheduling a two-day joint public meeting of its Groundfish Oversight Committee and Groundfish Industry Advisory Panel in October, 2000. Recommendations from the committees will be brought to the full Council for formal consideration and action, if appropriate.

DATES: The meeting will be held on Thursday, October 5, 2000, at 9:30 a.m. and Friday, October 6, 2000, at 9:30 a.m.

ADDRESSES: The meeting will be held at the Holiday Inn, Mansfield, 31 Hampshire Street, Mansfield, MA 02048; telephone: (508) 339-2200; fax: (508) 339-1040

FOR FURTHER INFORMATION CONTACT: Paul J. Howard, Executive Director, New England Fishery Management Council (978) 465-0492.

SUPPLEMENTARY INFORMATION: The committee and advisors will conduct a joint meeting to continue development of management options for Amendment 13 to the Northeast Multispecies Fishery Management Plan. Since April, the committee has been identifying a wide range of possible management measures for this amendment. They are focusing on three broad approaches to groundfish management: revisions to the measures currently in place, an area-based management system, and a sector allocation system. All three approaches will be discussed at this meeting and choices will be made on the specifics of each proposal that will be recommended to the Council later this year. In addition, the committee and advisors will review updated assessment information on groundfish stocks, if available, and may develop preliminary recommendations on the rebuilding schedules that will be used in this amendment. They will also consider information from the Council's Groundfish Overfishing Definitions Review Panel and will consider and develop recommendations for further review or changes to specific overfishing definitions. The committee and advisors will also consider the report of the Council's Capacity Committee and incorporate recommendations from that Committee into the management measures for Amendment 13.

Although non-emergency issues not contained in these agendas may come before this Council for discussion, those issues may not be the subject of formal Council action during this meeting.

Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: September 18, 2000.
Richard W. Surdi,
Acting Director, Office of Sustainable Fisheries, National Marine Fisheries Service.

[FR Doc. 00-24303 Filed 9-20-00; 8:45 am]

BILLING CODE 3510-22-S